FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on a reinstatement without change of a previously approved information collection for which approval has expired. In accordance with the Paperwork Reduction Act of 1995 (44 U.S.C. 3506(c)(2)(A)), this notice seeks comments concerning the Individual and Family Grant (IFG) Program.

The request is submitted under the emergency processing procedures in Office of Management and Budget (OMB) regulation 5 CFR 1320.13. FEMA is requesting that this information collection be approved by November 4, 2002. The approval will authorize FEMA to use the collection through May 31, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: The Robert T. Stafford Disaster Relief and Emergency Assistance Act, Pub. L. 93-288, as amended, and 44 CFR 206.131 are the statutory and regulatory provisions that govern the program and the purpose of the data collection. The collection of information will assist FEMA in monitoring program delivery to disaster applicants and compliance with other Federal requirements—flood insurance, environmental assessments, and floodplain management.

Collection of Information

Title: Individual and Family Grant (IFG) Program Administration Information.

Type of Information Collection: Reinstatement of a previously approved collection, which has expired.

OMB Number: 3067-0163.

Form Numbers:

FEMA Form 76-27, DARIS Entry Document, Initial Report, is initiated by the Region based on the data provided by the State. The State provides FEMA preliminary information on the IFG Program for staffing and management purposes. This report is completed once for each disaster, and establishes an account for each new IFG program.

FEMA Form 76-28, DARIS Entry Document, Status Report, is completed by the State IFG staff and provided to the FEMA Regional Director. It serves as the framework for reviewing, analyzing and monitoring the progress of the program. The report tracks the number and dollar amount of applications approved by the State, the number and dollar amount of grants disbursed and the number of grants appealed. The data carried on this report is used to make determinations on the need for additional allocation and obligation of funds for program activity.

FEMA Form 76-29, DARIS Entry Document, Final Statistical Report, captures information that constitutes a funding history by category of each IFG program. This data is critical for reports to OMB and the Congress. The information reveals the total IFG program cost. The form can also be used as a management tool to check on the States' record of accuracy in estimating IFG Program costs and in requesting advances. The State is responsible for completing the form, and the FEMA Region is responsible for entering the information into DARIS.

FEMA Form 76-32, Worksheet for Case File Reviews, is utilized by State IFG personnel in reviewing five percent of all cases. FEMA requires the State to keep the information and on occasion make requests to the States for information derived from the reviews.

FEMA Form 76-34, Checklist for IFG Program Review, is used during the interview process of the IFG Mid-Program Review of the States' administration program. The form is completed by FEMA Recovery Division staff and is designed as a guide for the reviewer. It covers all items that must be monitored by FEMA to ensure effective management of the IFG program.

FEMA Form 76-38, Floodplain Management Analysis, Executive Orders 11988, Floodplain Management Analysis, and 11990, Protection of Wetlands, place a responsibility on FEMA and the State to perform reviews before certain IFG assistance in the housing category can be approved. The review involves an eight-step decision-making process if the action, such as providing funds for purchase of a mobile home and the location (prior to the disaster) of the unit could affect a floodplain or wetland. The State is responsible for completing steps 3 and 4 of the process, while the Region retains responsibility for steps 2, 6 and 7, with the State providing the background information for these three steps. Steps 1, 5 and 8 are jointly shared by the State and Region.

Abstract: This collection of information is essential to the effective monitoring and management of the State administered IFG Program by FEMA Regional Office. FEMA Regional staff and Headquarters staff will utilize the information to effectively monitor and evaluate the States' administration of the IFG Program, thus enabling FEMA to assess compliance, consistency, and uniformity with Federal requirements. It is FEMA's responsibility of ensuring that the States perform and adhere to FEMA regulations and policy guidance.

Affected Public: Federal, State, Local or Tribal Governments.

Estimated Total Annual Burden Hours: 814 hours.

FEMA form No. | No. of responses (A) | Minutes per response (B) | Annual burden hours [(A x B)/60]
76-27 | 40 | 15 | 10.00
76-28 | 7200 | 5 | 600.00
76-29 | 40 | 30 | 20.00
76-32 | 40 | 30 | 20.00
76-34 | 40 | 240 | 160.00
76-38 | 2 | 120 | 4.00
| 7362 |  | 814.00

Estimated Cost: The total estimated annual cost to the respondent States is $15,229.94. The cost is determined by the average hourly rate of a GS9/5 ($18.71) times the 814 estimated annual burden hours. The total estimated annual cost to the Federal Government is $ 9,213.25. The cost is determined from calculating the amount of time (5%) that a Senior Federal employee spends reviewing the accuracy the forms and multiplying it by their annual salary of roughly $80,000 (GS14/5). Then, we add it to the amount of time (25%) that a data entry clerk spends inputting these figures into our database (25 %) and multiplying it by their annual salary of $20,853. (4,000 + 5, 213.25 = 9,213.25) This cost covers all responses submitted by all respondents.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments to the OMB within 30 days of the date of this notice. To ensure that FEMA is fully aware of any comments or concerns that you share with OMB, please provide us with a copy of your comments. FEMA will continue to accept comments for 60 days from the date of this notice.

OMB Addressee: Interested persons should submit written comments to the Office of Management and Budget, Office of Information and Regulatory Affairs, Attention: Desk Officer for the Federal Emergency Management Agency, 725 17th Street, NW., Washington, DC 20503.

FEMA Addressee: Submit written comments to Muriel B. Anderson, Chief, Records Management Branch, Information Resources Management Division, Information Technology and Services Directorate, Federal Emergency Management Agency, 500 C Street, SW., Room 316, Washington, DC 20472.

FOR FURTHER INFORMATION CONTACT: Contact Kenyatta Osman, Recovery Division, Response and Recovery Directorate, at (202) 646-4528. Contact Ms. Anderson at (202) 646-2625, facsimile number (202) 646-3347, or e-mail address InformationCollections@fema.gov for copies of the proposed collection of information.

Dated: October 4, 2002.
Brenda Erickson,
Acting Director, Information Resource Management Division, Information Technology and Services Directorate.

[FR Doc. 02-26797 Filed 10-21-02; 8:45 am]

BILLING CODE 6718-01-P